DEPARTMENT OF COMMERCE

International Trade Administration

[A-570-137]

Pentafluoroethane (R-125) From the People's Republic of China: Final Results of Antidumping Duty Administrative Review; 2021-2023

AGENCY: Enforcement and Compliance, International Trade Administration, Department of Commerce.

SUMMARY: The U.S. Department of Commerce (Commerce) determines that the mandatory respondents under review sold pentafluoroethane (R-125) to the United States from the People's Republic of China (China) at prices below normal value during the period of review (POR), August 17, 2021, through February 28, 2023.

DATES: Applicable August 14, 2024.

FOR FURTHER INFORMATION CONTACT: Andrew Hart or Samantha Kinney, AD/CVD Operations, Office II, Enforcement and Compliance, International Trade Administration, U.S. Department of Commerce, 1401 Constitution Avenue NW, Washington, DC 20230; telephone: (202) 482-1058 or (202) 482-2285, respectively.

SUPPLEMENTARY INFORMATION:

Background

On April 3, 2024, Commerce published in the Federal Register the preliminary results of the 2021-2023 administrative review ¹ of the antidumping duty order on R-125 from China and invited parties to comment.² The review covers two mandatory respondents, Zhejiang Sanmei Chemical Ind. Co., Ltd. (Zhejiang Sanmei), and Zhejiang Yonghe Refrigerant Co., Ltd. (Zhejiang Yonghe). We received case briefs and rebuttal briefs from Zhejiang Yonghe, National Refrigerants, Inc., a U.S. importer of subject merchandise, and Honeywell International, Inc. (the petitioner).³

¹ See Pentafluoroethane (R-125) from the People's Republic of China: Preliminary Results of Antidumping Duty Administrative Review; 2021-2023, 89 FR 22997 (April 3, 2024) (Preliminary Results), and accompanying Preliminary Decision Memorandum (PDM).

² See Pentafluoroethane (R-125) from the People's Republic of China: Antidumping and Countervailing Duty Orders, 87 FR 12081 (March 3, 2022) (Order).

³ See Petitioner's Letter, “Case Brief,” dated May 10, 2024; see also National Refrigerants, Inc.'s Letter, “Case Brief of National Refrigerants, Inc.,” dated May 10, 2024; Zhejiang Yonghe's Letter, “Refiled Case Brief,” dated May 23, 2024; Petitioner's Letter, “Rebuttal Brief,” dated May 28, 2024; National Refrigerants, Inc.'s Letter “Rebuttal Brief of National Refrigerants, Inc.,” dated May 28, 2024; and Zhejiang Yonghe's Letter, “Rebuttal Case Brief,” dated May 28, 2024.

On July 22, 2024, Commerce tolled certain deadlines in this administrative proceeding by seven days.⁴ The deadline for the final results is now August 8, 2024. For a complete description of the events that occurred since the Preliminary Results, see the Issues and Decision Memorandum.⁵

⁴ See Memorandum, “Tolling of Deadlines for Antidumping and Countervailing Duty Proceedings,” dated July 22, 2024.

⁵ See Memorandum, “Decision Memorandum for the Final Results of the 2021-2023 Administrative Review of the Antidumping Duty Order on Pentafluoroethane (R-125) from the People's Republic of China,” dated concurrently with, and hereby adopted by, this notice (Issues and Decision Memorandum).

Scope of the Order

The products subject to the Order is R-125 from China. A full description of the scope of the Order is contained in the Issues and Decision Memorandum.

Analysis of Comments Received

All issues raised in briefs filed by parties in this administrative review are addressed in the Issues and Decision Memorandum and are listed in the Appendix to this notice. The Issues and Decision Memorandum is a public document and on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Separate Rate

Commerce determines that the Sanmei Companies ⁶ and the Yonghe Companies,⁷ the two companies individually examined in this review, are eligible to receive separate rates in this review.⁸

⁶ For these final results, Commerce continues to find that the following affiliated companies should be collapsed and treated as a single entity as it determined in the Preliminary Results: Zhejiang Sanmei; Jiangsu Sanmei Chemical Ind. Co., Ltd.; and Fujian Qingliu Dongying Chemical Ind. Co., Ltd. (collectively, Sanmei Companies). See Preliminary Results PDM at 5.

⁷ For these final results, Commerce continues to find that the following affiliated companies should be collapsed and treated as a single entity as determined in the Preliminary Results: Zhejiang Yonghe; Jinhua Yonghe Flurine Chemical Co., Ltd.; Inner Mongolia Yonghe Fluorochemical Co., Ltd.; and Shaowu Yonge Jintag new material Co., Ltd. (collectively, the Yonghe Companies). Additionally for these final results, Commerce collapsed Inner Mongolia Huasheng Hydrohuone Alid Co., Ltd. and Jiangxi Shilei Fluorochemical Co., Ltd. with the Yonghe Companies. See Issues and Decision Memorandum at Comment 3 for details.

⁸ See Preliminary Results at “Separate Rates” section.

China-Wide Entity

Under Commerce's policy regarding the conditional review of the China-wide entity,⁹ the China-wide entity will not be under review unless a party specifically requests, or Commerce self-initiates, a review of the entity. Because no party requested a review of the China-wide entity in this review, the entity is not under review, and the entity's rate (i.e., 267.51. percent) is not subject to change.¹⁰

⁹ See Antidumping Proceedings: Announcement of Change in Department Practice for Respondent Selection in Antidumping Duty Proceedings and Conditional Review of the Nonmarket Economy Entity in NME Antidumping Duty Proceedings, 78 FR 65963 (November 4, 2013).

¹⁰ See Order.

Changes Since the Preliminary Results

Based on our review of the record and comments received from interested parties regarding our Preliminary Results, and for the reasons explained in the Issues and Decision Memorandum, we made certain changes to the margin calculations for the Yonghe Companies.¹¹ Additionally, Commerce collapsed two additional companies with the Yonghe Companies.¹²

¹¹ See Issues and Decision Memorandum at Comment 2.

¹² Id. at Comment 3.

Final Results of Review

For the companies subject to this review that established their eligibility for a separate rate, Commerce determines that the following estimated weighted-average dumping margins exist for the period August 17, 2021, through February 28, 2023:

Exporter | Weighted- average dumping margin (percent)
Zhejiang Sanmei Chemical Industry Co., Ltd.; Fujian Qingliu Dongying Chemical Co., Ltd.; Jiangsu Sanmei Chemical Ind. Co., Ltd | 24.62
Zhejiang Yonghe Refrigerant Co., Ltd.; Jinhua Yonghe Fluorine Chemical Co., Ltd.; Inner Mongolia Yonghe Fluorochemical Co., Ltd.; Shaowu Yonghe Jintang new material Co., Ltd.; Inner Mongolia Huasheng Hydrohuone Alid Co., Ltd.; Jiangxi Shilei Fluorochemical Co., Ltd | 267.66

Disclosure

Commerce intends to disclose the calculations performed in connection with these final results of review to interested parties within five days after public announcement of the final results or, if there is no public announcement, within five days of the date of publication of the notice of final results in the Federal Register, in accordance with 19 CFR 351.224(b).

Assessment Rates

Pursuant to section 751(a)(2)(A) of the Act, and 19 CFR 351.212(b)(1), Commerce shall determine, and U.S. Customs and Border Protection (CBP) shall assess, antidumping duties on all appropriate entries of subject merchandise in accordance with the final results of this review.

For the Sanmei Companies and the Yonghe Companies, Commerce will calculate importer-specific assessment rates for antidumping duties, in accordance with 19 CFR 351.212(b)(1).

For entries that were not reported in the U.S. sales database submitted by the exporter individually examined during this review, Commerce will instruct CBP to liquidate such entries at the China-wide rate.¹³

¹³ For a full discussion of this practice, see Non-Market Economy Antidumping Proceedings: Assessment of Antidumping Duties, 76 FR 65694 (October 24, 2011).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for shipments of the subject merchandise from China entered, or withdrawn from warehouse, for consumption on or after the publication date, as provided by section 751(a)(2)(C) of the Act: (1) for the exporters listed above, the cash deposit rate will be equal to the weighted-average dumping margin established in the final results of this review; (2) for previously investigated or reviewed Chinese and non-Chinese exporters not listed above that currently have a separate rate, the cash deposit rate will continue to be the exporter-specific rate published for the most recently completed segment of this proceeding where the exporter received that separate rate; (3) for all Chinese exporters of subject merchandise that have not been found to be entitled to a separate rate, the cash deposit rate will be the rate for the China-wide entity (i.e., 267.51 percent); and (4) for all non-Chinese exporters of subject merchandise that have not received their own separate rate, the cash deposit rate will be the rate applicable to the Chinese exporter that supplied that non-Chinese exporter. These deposit requirements, when imposed, shall remain in effect until further notice.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties has occurred and the subsequent assessment of double antidumping duties, and/or an increase in the amount of antidumping duties by the amount of countervailing duties.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and terms of an APO is a violation subject to sanction.

Notification to Interested Parties

We are issuing and publishing these final results of administrative review in accordance with sections 751(a)(1) and 777(i)(1) of the Act and 19 CFR 351.221(b)(5) and 19 CFR 351.213(h)(2).

Dated: August 7, 2024.
Scot Fullerton,
Acting Deputy Assistant Secretary for Antidumping and Countervailing Duty Operations.

Appendix

List of Topics Discussed in the Issues and Decision Memorandum

I. Summary

II. Background

III. Scope of the Order

IV. Changes Since the Preliminary Results

V. Discussion of the Issues

Comment 1: Whether To Apply an Export Subsidy Adjustment

Comment 2: Revision of Calculations

Comment 3: Whether To Collapse Inner Mongolia Huasheng Hydrohuone Alid Co., Ltd. (Inner Mongolia Huasheng) and Jiangxi Shilei Fluorochemical Co., Ltd. (Jiangxi Shilei) With the Yonghe Companies

Comment 4: Whether To Select the Republic of Türkiye (Türkiye) as the Surrogate Country (SC)

Comment 5: Surrogate Value (SV) for Chloroform

Comment 6: Self-produced Anhydrous Hydrogen Fluoride (AHF)

Comment 7: By-product Offset

Comment 8: Financial Ratio

VI. Recommendation

[FR Doc. 2024-18106 Filed 8-13-24; 8:45 am]

BILLING CODE 3510-DS-P